DEPARTMENT OF THE TREASURY

Submission for OMB Review; Comment Request

May 13, 2003.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before June 19, 2003 to be assured of consideration.

Bureau of the Public Debt (PD)

OMB Number: 1535-0012.

Form Number: PD F 1455.

Type of Review: Extension.

Title: Request by Fiduciary for Reissue of United States Savings Bonds/Notes.

Description: PD F 1455 is used by fiduciary to request distribution of U.S. Savings Bonds/Notes to the person(s) entitled.

Respondents: Individuals or households.

Estimated Number of Respondents: 72,000.

Estimated Burden Hours Per Respondent: 30 minutes.

Frequency of Response: On occasion.

Estimated Total Reporting Burden Hours: 36,000 hours.

OMB Number: 1535-0032.

Form Number: PD F 3565.

Type of Review: Extension.

Title: Application for disposition of Retirement Plan/Individual Retirement Bonds Without Administration of Deceased Owner's Estate.

Description: PD F 3565 is used by heirs of deceased owners of Retirement Plan/Individual Retirement Bonds to request disposition.

Respondents: Individuals or households.

Estimated Number of Respondents: 50.

Estimated Burden Hours Per Respondent: 20 minutes.

Frequency of Response: On occasion.

Estimated Total Reporting Burden Hours: 17 hours.

OMB Number: 1535-0055.

Form Number: PD F 1050.

Type of Review: Extension.

Title: Creditors Consent to Disposition of U.S. Securities and Related Checks Without Administration of Deceased Owner's Estate.

Description: PD F 1050 is used to obtain creditors consent to dispose of Savings Bonds of a deceased owner's estate without administration.

Respondents: Business or other for-profit, Individuals or households.

Estimated Number of Respondents: 3,000.

Estimated Burden Hours Per Respondent: 6 minutes.

Frequency of Response: On occasion.

Estimated Total Reporting Burden Hours: 300 hours.

OMB Number: 1535-0084.

Form Number: PD F 5263, PD F 5263-1, PD F 5374, and PD F 5374-1.

Type of Review: Extension.

Title: Order for Series EE U.S. Savings Bonds (PD F 5263); Order for Series EE U.S. Savings Bonds to be Registered in Name of Fiduciary (PD F 5263-I); Series I Order for U.S. Savings Bonds (PD F 5374); and Series I Order for U.S. Savings Bonds to be Registered in Name of Fiduciary (PD F5374-1).

Description: These forms are completed by the purchaser to issue United States Savings Bonds.

Respondents: Individuals or households.

Estimated Number of Respondents: 10,000,000.

Estimated Burden Hours Per Respondent: 5 minutes per form.

Frequency of Response: On occasion.

Estimated Total Reporting Burden Hours: 830,000 hours.

OMB Number: 1535-0102.

Form Number: PD F 1071.

Type of Review: Extension.

Title: Certificate of Ownership of United States Bearer Securities.

Description: PD F 1071 is used to establish ownership and support a request for payment.

Respondents: Individuals or households, Business or other for-profit.

Estimated Number of Respondents: 1,000.

Estimated Burden Hours Per Respondent: 15 minutes.

Frequency of Response: On occasion.

Estimated Total Reporting Burden Hours: 250 hours.

OMB Number: 1535-0126.

Form Number: PD F 3871.

Type of Review: Extension.

Title: Application for Issue of United States Mortgage Guaranty Insurance Company Tax and Loss Bonds.

Description: PD F 3871 is submitted by companies engaged in the business of writing mortgage guaranty insurance for purpose of purchasing “Tax and Loss” bonds.

Respondents: Business or other for-profit.

Estimated Number of Respondents: 37 Estimated Burden Hours Per Respondent: 15 minutes.

Frequency of Response: On occasion.

Estimated Total Reporting Burden Hours: 20 hours.

Clearance Officer: Vicki S. Thorpe (304) 480-6553, Bureau of the Public Debt, 200 Third Street, Parkersburg, West VA 26106-1328.

OMB Reviewer: Joseph F. Lackey, Jr., Office of Management and Budget, Room 10235, New Executive Office Building, Washington, DC 20503, (202) 395-7316.

Mary A. Able,
Departmental Reports Management Officer.

[FR Doc. 03-12676 Filed 5-19-03; 8:45 am]

BILLING CODE 4810-39-P